FEDERAL COMMUNICATIONS COMMISSION

[CC Docket No. 92-237; DA 03-2739]

Next Meeting of the North American Numbering Council

AGENCY: Federal Communications Commission.

ACTION: Notice.

SUMMARY: On August 27, 2003, the Commission released a public notice announcing the September 25, 2003 meeting and agenda of the North American Numbering Council (NANC). The intended effect of this action is to make the public aware of the NANC's next meeting and its agenda.

DATES: Thursday, September 25, 2003, 9 a.m.

ADDRESSES: Telecommunications Access Policy Division, Wireline Competition Bureau, Federal Communications Commission, The Portals II, 445 12th Street, SW., Suite 5-A420, Washington, DC 20554. Requests to make an oral statement or provide written comments to the NANC should be sent to Deborah Blue.

FOR FURTHER INFORMATION CONTACT: Deborah Blue, Special Assistant to the Designated Federal Officer (DFO) at (202) 418-1466 or dblue@fcc.gov. The fax number is: (202) 418-2345. The TTY number is: (202) 418-0484.

SUPPLEMENTARY INFORMATION: Released: August 27, 2003.

The North American Numbering Council (NANC) has scheduled a meeting to be held Thursday, September 25, 2003, from 9 a.m. until 5 p.m. The meeting will be held at the Federal Communications Commission, Portals II, 445 12th Street, SW., Room TW-C305, Washington, DC. This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting.

Proposed Agenda—Thursday, September 25, 2003, 9 a.m.

1. Announcements and Recent News

—New NANC Members

2. Approval of Minutes

—Meeting of May 13, 2003

—Meeting of July 15, 2003

3. Report from Summer Sleuths regarding Number Exhaust Solutions

4. Report of Cost Recovery Working Group

5. Report from NBANC

6. Report of NAPM, LLC status

7. Report of 3-Digit DIG IMG

—Pros and cons of N11 and 344

—Cost estimates and cost recovery

8. Report of National Thousands Block Pooling Administrator

—Activity report

9. Status of Industry Numbering Committtee (INC) activities

—VoIP Workshop

—Analysis of multiple LRNs for multiple tandems; alternatives

—Issues associated with PA change orders

—Porting of wireless grandfathered numbers

10. Report of Local Number Portability Administration (LNPA) Working Group

—Wireless Number Portability Operations (WNPO) Subcommittee

11. Report of the North American Numbering Plan Administrator (NANPA)

—CO Code Activity

—NPA Relief Report

—NRUF Update

—Conference call regarding INC's technical analysis of LRN on multiple tandems

12. Report of Oversight Working Group

—Change Order review

—Status of NANPA and PA annual reviews

13. New assignment from FCC: Report to FCC by April 30, 2004 regarding Impact on Increasing Contamination Threshold in Area Codes 310 and 909

14. Update on ENUM from ENUM Forum

15. List of NANC Accomplishments

16. Summary of Action Items

17. Public Comments and Participation (5 minutes per speaker)

18. Other Business

Adjourn no later than 5 p.m.

Federal Communications Commission.
Cheryl L. Callahan,
Assistant Chief, Telecommunications Access Policy Division, Wireline Competition Bureau.

[FR Doc. 03-22290 Filed 8-29-03; 8:45 am]

BILLING CODE 6712-01-P